DEPARTMENT OF EDUCATION

Office of Special Education Programs, Office of Special Education and Rehabilitative Services, Department of Education; Notice of Final Extension of Project Period and Waiver for the National Center on Educational Outcomes at the University of Minnesota (CFDA No. 84.326G)

SUMMARY: The Secretary issues this notice to waive the requirements in the Education Department General Administrative Regulations, in 34 CFR 75.250 and 75.261(a) and (c), respectively, that generally prohibit project periods exceeding five years and extensions of project periods involving the obligation of additional Federal funds. The extension of project period and waiver enable the currently funded National Center on Educational Outcomes at the University of Minnesota to receive funding from October 1, 2010 through September 30, 2011.

DATES: The extension of project period and waiver are effective September 14, 2010.

FOR FURTHER INFORMATION CONTACT: David Malouf, U.S. Department of Education, 550 12th St., SW., Room 4114, Potomac Center Plaza, Washington, DC 20202-2641; Telephone: (202) 245-6253.

If you use a telecommunications device for the deaf (TDD), call the Federal Relay Service (FRS), toll-free, at 1-800-877-8339.

SUPPLEMENTARY INFORMATION: The Department published a notice in the Federal Register (75 FR 44234) on July 28, 2010, proposing an extension of project period and a waiver in order to—

(1) Enable the Secretary to provide additional funds to the currently funded National Center on Educational Outcomes at the University of Minnesota for an additional 12-month period, from October 1, 2010 through September 30, 2011; and

(2) Request comments on the proposed extension of project period and waiver.

There are no substantive differences between the notice of proposed extension of project period and waiver and this notice of final extension of project period and waiver.

Public Comment

We invited comments on the proposed extension of project period and waiver in the notice of proposed extension of project period and waiver. We did not receive any comments.

Waiver of Delayed Effective Date

The Administrative Procedure Act requires that a substantive rule must be published at least 30 days before its effective date, except as otherwise provided for good cause (5 U.S.C. 553(d)(3)). No comments were received during the 15-day public comment period on the notice of proposed extension of project period and waiver and we have not made any substantive changes to the extension and waiver. The Secretary has determined therefore that, to ensure a timely continuation grant to the entity affected, a delayed effective date is not required.

Background

On August 8, 2005, the Department published a notice in the Federal Register (70 FR 45712), inviting applications for new awards for fiscal year (FY) 2005 under the Technical Assistance and Dissemination to Improve Services and Results for Children with Disabilities program (TA&D), authorized under section 663 of the Individuals with Disabilities Act (IDEA), to support a National Technical Assistance Center on Assessment for Children with Disabilities. Based on that notice, the Department made one award for a period of 60 months to the University of Minnesota, National Center on Educational Outcomes (NCEO). Under this award, the Office of Special Education Programs (OSEP) funds NCEO to address national, State, and local assessment issues related to students with disabilities. NCEO also assists OSEP with analyzing State assessment data submitted in the State Performance Plan/Annual Performance Reports (SPP/APR) required under the IDEA.

NCEO's current project period is scheduled to end on September 30, 2010. We do not believe it would be in the public interest to hold new competitions under the TA&D program until the Department has considered changes being made to the Elementary and Secondary Education Act of 1965, as amended (ESEA), during the process of reauthorizing that law and the Department has developed a coordinated strategy for the provision of technical assistance that is designed to help States, local educational agencies (LEAs), and schools effectively implement key provisions of the ESEA and IDEA and improve educational results for all students. We also have concluded that it would be contrary to the public interest to have a lapse in the provision of technical assistance provided under the TA&D program pending the reauthorization of ESEA. For these reasons, the Secretary waives the requirements in 34 CFR 75.250, which prohibit project periods exceeding five years, and the requirements in 34 CFR 75.261(a) and (c), which limit the extension of a project period if the extension involves the obligation of additional Federal funds, and issues a continuation award in the amount of $1,000,000 to the University of Minnesota (H326G050007) for an additional twelve-month period.

Waiving these regulations and issuing this continuation award ensure that continued technical assistance is available to assist States with developing and implementing appropriate assessments of students with disabilities, as well as emerging issues related to the inclusion of children with disabilities in assessments, as the Department works on reauthorization of the ESEA and designs IDEA technical assistance competitions that are coordinated and aligned with the Department's technical assistance priorities.

During the next fiscal year, NCEO will (1) Provide, upon request, technical assistance to States regarding the inclusion of students with disabilities as they develop new academic assessments, including assessments that consortia of States may develop under the Race to the Top Assessment Program, and assessments associated with other Federal laws (e.g., the ESEA and IDEA); (2) develop and implement national and regional activities to ensure that students with disabilities are included in and benefit from emerging approaches to assessment (e.g., supporting communities of practice and convening national forums); (3) continue, update, and expand analyses of State SPP/APR assessment data; (4) collect, analyze, synthesize, and disseminate relevant information related to the assessment of students with disabilities, as appropriate; and (5) serve as a national resource for policymakers, administrators, teachers, advocates, and parents on the assessment of students with disabilities.

Regulatory Flexibility Act Certification

The Secretary certifies that the extension of project period and waiver do not have a significant economic impact on a substantial number of small entities. The only entity affected is NCEO.

Paperwork Reduction Act of 1995

The extension of project period and waiver do not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or computer diskette) on request to the contact person listed under FOR FURTHER INFORMATION CONTACT.

Electronic Access to This Document

You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: September 7, 2010.
Alexa Posny,
Assistant Secretary for Special Education and Rehabilitative Services.

[FR Doc. 2010-22904 Filed 9-13-10; 8:45 am]

BILLING CODE 4000-01-P